NATIONAL SCIENCE FOUNDATION

Sunshine Act Meetings

The National Science Board, pursuant to NSF regulations (45 CFR part 614), the National Science Foundation Act, as amended, (42 U.S.C. 1862n-5), and the Government in the Sunshine Act (5 U.S.C. 552b), hereby gives notice of a revision to an announcement of meetings for the transaction of National Science Board business.

FEDERAL REGISTER CITATION OF PREVIOUS ANNOUNCEMENT: 83 FR 43710, published on August 27, 2018.

PREVIOUSLY ANNOUNCED TIME AND DATE OF MEETING: Thursday, August 30, 2018 from 3:00 p.m. to 4:00 p.m.

CHANGE IN THE MEETING: This meeting of the National Science Board has been postponed. Notice of the new time and place will be provided when it is rescheduled.

CONTACT PERSON FOR MORE INFORMATION: Brad Gutierrez, bgutierr@nsf.gov, 703/292-7000. Please refer to the National Science Board website for additional information. Meeting information and schedule updates (time, place, subject matter, and status of meeting) may be found at http://www.nsf.gov/nsb/meetings/notices.jsp#sunshine.

Ann Bushmiller,
Senior Counsel to the National Science Board.

[FR Doc. 2018-19123 Filed 8-29-18; 4:15 pm]

BILLING CODE 7555-01-P